DEPARTMENT OF HEALTH AND HUMAN SERVICES

Administration for Children and Families

Award of Replacement Grant for Preventive Health to Lutheran Social Services of North Dakota, Fargo, ND

AGENCY: Office of Refugee Resettlement, ACF, DHHS.

ACTION: Notice of award.

CFDA NUMBER: 93.576.

Statutory Authority: This program is authorized by Section 412(b)(5) of the Immigration and Nationality Act, as amended (8 U.S.C. 1522(b)(5)), which provides for medical screening and initial medical treatment for refugees.

Amount of Award: $66,000.

SUMMARY: In Fiscal Year 2006, in an effort to assist States and local health departments to ensure that newly arriving refugees have access to preventive health screenings, the Administration for Children and Families (ACF), Office of Refugee Resettlement (ORR), Division of Refugee Assistance (DRA) awarded, through competition, a Refugee Preventive Health grant to the North Dakota Department of Human Services for a project period of July 1, 2006 to June 30, 2011. The North Dakota Department of Human Services has relinquished the grant.

ORR announces the award of a single-source replacement grant to Lutheran Social Services of North Dakota of Fargo, ND, a non-profit organization engaged in the resettlement of refugees, to continue services under the Refugee Preventive Health grant. Services provided under the grant to Lutheran Social Services of North Dakota are within the scope and operation of the original award, and address the preventive health needs of refugees in their first year in the United States. The program includes initial health screening, treatment of immediate health needs, follow up on chronic illnesses, nursing case management, interpretation services and preventive health education. The project period for the award is July 1, 2010 to June 30, 2011.

FOR FURTHER INFORMATION CONTACT: Pamela Green-Smith, Director, Division of Refugee Assistance, Office of Refugee Resettlement, 370 L'Enfant Promenade, SW., Washington, DC 20447. Telephone: 202-401-4531. E-mail: Pamela.Greensmith@acf.hhs.gov.

Dated: July 27, 2011.
Mitiku Ashebir,
Acting Director, Division of Refugee Assistance, Office of Refugee Resettlement.

[FR Doc. 2011-19847 Filed 8-4-11; 8:45 am]

BILLING CODE 4120-27-P